NATIONAL AERONAUTICS AND SPACE ADMINISTRATION

[Notice: (17-089)]

Earth Science Advisory Committee; Meeting.

AGENCY: National Aeronautics and Space Administration.

ACTION: Notice of meeting.

SUMMARY: In accordance with the Federal Advisory Committee Act, as amended, the National Aeronautics and Space Administration (NASA) announces a meeting of the Earth Science Advisory Committee. This Committee reports to the Director, Earth Science Division, Science Mission Directorate, NASA Headquarters. The meeting will be held for the purpose of soliciting, from the scientific community and other persons, scientific and technical information relevant to program planning.

DATES: Wednesday, January 24, 2018, 8:30 a.m.-5:00 p.m., and Thursday, January 25, 2018, 8:30 a.m.-3:00 p.m., Local Time.

ADDRESSES: NASA Headquarters, Room 6H41, 300 E Street SW, Washington, DC 20546.

FOR FURTHER INFORMATION CONTACT: KarShelia Henderson, Science Mission Directorate, NASA Headquarters, Washington, DC 20546, (202) 358-2355, fax (202) 358-2779, or khenderson@nasa.gov.

SUPPLEMENTARY INFORMATION: The meeting will be open to the public up to the capacity of the meeting room. This meeting is also available telephonically and by WebEx. You must use a touch-tone phone to participate in this meeting. Any interested person may dial the USA toll free number 1-888-677-3055 or toll number 1-517-623-4737, passcode 2652931, for both days. The WebEx link is https://nasa.webex.com/; the meeting number on January 24 is 993 357 092, password is Z5PHUHx* (case sensitive); and the meeting number on January 25 is 993 289 715, password is 7Ysvs4S* (case sensitive). The agenda for the meeting includes the following topics:

—Earth Science Division Update

—Earth Science Decadal Survey

—Earth Science Division Approaches for International Coordination

—Evolution of the Earth Science Division Airborne Science Program

—Ensuring High Impact Research in the Earth Science Division

Attendees will be requested to sign a register and to comply with NASA Headquarters security requirements, including the presentation of a valid picture ID to Security before access to NASA Headquarters. Foreign nationals attending this meeting will be required to provide a copy of their passport and visa in addition to providing the following information no less than 10 days prior to the meeting: Full name; gender; date/place of birth; citizenship; passport information (number, country, telephone); visa information (number, type, expiration date); employer/affiliation information (name of institution, address, country, telephone); title/position of attendee. To expedite admittance, attendees with U.S. citizens and Permanent Residents (green card holders) are asked to provide full name and citizenship status no less than 3 working days in advance by contacting KarShelia Henderson via email at khenderson@nasa.gov or by fax at (202) 358-2779. It is imperative that the meeting be held on this date to accommodate the scheduling priorities of the key participants.

Patricia D. Rausch,
Advisory Committee Management Officer, National Aeronautics and Space Administration.

[FR Doc. 2017-27291 Filed 12-18-17; 8:45 am]

BILLING CODE 7510-13-P